FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 8, 2006.

A. Federal Reserve Bank of Atlanta (Andre Anderson, Vice President) 1000 Peachtree Street, N.E., Atlanta, Georgia 30303:

1. Robin and Cherie Arkley Revocable Algiers Bancorp Stock Trust, Eureka, California, with Robin P. Arkley II and Cherie P. Arkley, Eureka, California, as trustees; the Allison E. Arkley Trust No. 5, Eureka, California, with Russell N. Bacon, managing member of CTT, LLC, Eureka, California, and John L. Piland as trustees; and the Elizabeth A. Arkley Trust No. 5, with Russell N. Bacon, managing member of CTT, LLC, Eureka, California, and John L. Piland as trustees; and Jack J. Mendheim and Stephanie C. Mendheim, Folsom, Louisiana; to acquire voting shares of Algiers Bancorp, Inc., Baton Rouge, Louisiana, and thereby indirectly acquire voting shares of Statewide Bank, Terrytown, Louisiana.

B. Federal Reserve Bank of Chicago (Patrick M. Wilder, Assistant Vice President) 230 South LaSalle Street, Chicago, Illinois 60690-1414:

1. The Valley Community Bancorp, Inc. Voting Trust, Robert Hoge, Kenneth Kaergard, and Larry Breon, trustees, all of St. Charles, Illinois; to acquire voting shares of Valley Community Bancorp, Inc., St. Charles, Illinois, and thereby indirectly acquire voting shares of Valley Community Bank, St. Charles, Illinois.

Board of Governors of the Federal Reserve System, April 18, 2006.
Robert deV. Frierson,
Deputy Secretary of the Board.

[FR Doc. E6-5996 Filed 4-20-06; 8:45 am]

BILLING CODE 6210-01-S